DEPARTMENT OF LABOR

Employee Benefits Security Administration

Advisory Council on Employee Welfare and Pension Benefit Plans; Notice of Meeting

Pursuant to the authority contained in Section 512 of the Employee Retirement Income Security Act of 1974 (ERISA), 29 U.S.C. 1142, the Working Groups assigned by the Advisory Council on Employee Welfare and Pension Benefit Plans to study the issues of (1) The spend down of retirement assets, (2) hard to value assets/target date funds, and (3) phased retirement, will hold a public teleconference meeting on September 29, 2008.

Members of the public wishing to listen to the teleconference may attend in Room C5515-B, U.S. Department of Labor, 200 Constitution Avenue, NW., Washington, DC. The purpose of the open meeting is for each Working Group to discuss its draft report with the full Advisory Council with respect to its recommendations to the Secretary of Labor. The meeting will run from 10 a.m. to approximately 4 p.m., in the order listed above for the Working Groups. All recommendations are subject to discussion and approval by the full Advisory Council at its meeting on November 5-6.

Organizations or members of the public wishing to submit a written statement pertaining to the topic may do so by submitting 25 copies on or before September 22, 2008 to Larry Good, Executive Secretary, ERISA Advisory Council, U.S. Department of Labor, Suite N-5623, 200 Constitution Avenue NW., Washington, DC 20210. Statements also may be submitted electronically to good.larry@dol.gov. Statements received on or before September 22 will be included in the record of the meeting. Individuals or representatives of organizations wishing to address one or more of the Working Groups should forward their requests to the Executive Secretary or telephone (202) 693-8668. Oral presentations will be limited to 10 minutes, time permitting, but an extended statement may be submitted for the record. Individuals with disabilities who need special accommodations should contact Larry Good by September 22 at the address indicated.

Signed at Washington, DC this 5th day of September, 2008.
Bradford P. Campbell,
Assistant Secretary, Employee Benefits Security Administration.

[FR Doc. E8-21102 Filed 9-10-08; 8:45 am]

BILLING CODE 4510-29-P